ENVIRONMENTAL PROTECTION AGENCY

[ER-FRL-6669-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in FR dated April 1, 2005 (70 FR 16815).

Draft EISs

EIS No. 20050220, ERP No. D-FHW-L40227-WA, Interstate 90 Snoqualmie Pass East Project, Proposes to Improve a 15-mile Portion of I-90 from Milepost 55.10 in Hyak to Milepost 70.3 New Easton, Funding, U.S. Army COE Section 404 Permit and NPDES Permit, Kittitas County, WA.

Summary: EPA has environmental objections about the proposed project primarily related to the adequacy of the ecological connectivity options presented. EPA notes that no preferred alternative was selected and the most substantial environmental issues relate to the No Action Alternative and Ecological Connectivity Improvement Package C.

Rating EO2.

EIS No. 20050354, ERP No. D-UAF-E11057-00, Shaw Air Base Airspace Training Initiative (ATI), 20th Fighter Wing Proposal to Modify the Training Airspace Overlying Parts, South Carolina and Georgia

Summary: EPA expressed concern about airspace management/configuration/access around existing civilian airports in Georgia and ongoing coordination with the public regarding noise issues. Mitigation of some of the specific impacts can be accomplished via structuring the various training scenarios and modifying the proposed airspace to further avoid/minimize impacts around civilian airports.

Rating EC1.

EIS No. 20050368, ERP No. D-IBR-G28013-NM, Carlsbad Project Water Operations and Water Supply Conservation, Changes in Carlsbad Project Operations and Implementation of Water Acquisition Program, U.S. COE Section 404 Permit, NPDES, Eddy, De Baca, Chaves, and Guadelupe Counties, NM.

Summary: EPA had no objection to the selection of the preferred action.

Rating LO.

Final EISs

EIS No. 20050344, ERP No. F-NRC-F06025-WI, Generic—License Renewal for Point Beach Nuclear Plant, Units 1 and 2, Supplement 23 to NUREG-1437 (TAC Nos. MC2049 and MC2050), Lake Michigan, Manitowoc County, WI.

Summary: EPA continues to express concerns about the adequacy and clarity of the radiological impact assessments and risk estimates.

EIS No. 20050373, ERP No. F-COE-H39012-MO, Howard Bend Floodplain Area Study, Improvements for Future Land, Future Road, and Stormwater Management, Missouri River Flood Developments, U.S. Army COE Section 10 and 404 Permits, St. Louis County, MO.

Summary: EPA continued to express concerns about the cumulative effects analysis, including uncertainty over the potential for development within the levee-protected area and the reliance on potentially outdated FEMA profiles that may underestimate impacts.

EIS No. 20050376, ERP No. F-COE-G32057-TX, Cedar Bayou Navigation Chanel (CBNC) Improvement Project, Implementation, Near Baytown in Harris and Chambers Counties, TX.

Summary: No comment letter was sent to the preparing agency.

EIS No. 20050419, ERP No. F-AFS-J65441-MT, Middle East Fork Hazardous Fuel Reduction Project, Implementation of Three Alternatives, Bitterroot National Forest, Sula Ranger District, Ravalli County, MT.

Summary: EPA continues to express concerns about potential impacts to water quality. EPA stressed the importance of designing and implementing fuels reduction treatments and road access in a manner that minimizes impacts. EPA also recommended modification of mitigation measures to further assure protection for large old growth Ponderosa pine trees.

Dated: November 1, 2005.
Ken Mittelholtz,
Environmental Protection Specialist, Office of Federal Activities.

[FR Doc. 05-22041 Filed 11-3-05; 8:45 am]

BILLING CODE 6560-50-P